DEPARTMENT OF THE INTERIOR

Geological Survey

[GX21ZS00COM0000; OMB Control Number 1028-NEW]

Agency Information Collection Activities; Assessing Community Needs for Terrestrial Analog Studies

AGENCY: Geological Survey, Interior.

ACTION: Notice of information collection; request for comment.

SUMMARY: In accordance with the Paperwork Reduction Act of 1995, we, the U.S. Geological Survey (USGS) are proposing a new information collection.

DATES: Interested persons are invited to submit comments on or before April 18, 2022.

ADDRESSES: Send your comments on this information collection request (ICR) by mail to U.S. Geological Survey, Information Collections Officer, 12201 Sunrise Valley Drive MS 159, Reston, VA 20192; and by email to: gs-info_collections@usgs.gov. Please reference OMB Control Number 1028-NEW in the subject line of your comments.

FOR FURTHER INFORMATION CONTACT: To request additional information about this ICR, contact Lauren Edgar by email at ledgar@usgs.gov, or by telephone at 928-556-7213. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct, or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The survey is designed to gather feedback from planetary science community members that have a self-described interest in the use of terrestrial analogs or places on earth with past or present geological environmental or biological conditions. The survey is intended to assess the obstacles that exist related to training, research, sample collections, and data archiving within analog projects, the need for coordination across the community, and what products and services might be needed to further terrestrial analog use and support exploration. Results from the survey will not be targeted at a particular audience but will instead be used to encourage responses and actions by various parts of the community.

Title of Collection: Assessing Community Needs for Terrestrial Analog Studies.

OMB Control Number: 1028-NEW.

Form Number: None.

Type of Review: In use without approval.

Respondents/Affected Public: Individuals.

Total Estimated Number of Annual Respondents: 300.

Total Estimated Number of Annual Responses: 300.

Estimated Completion Time per Response: 10 minutes on average.

Total Estimated Number of Annual Burden Hours: 50.

Respondent's Obligation: Voluntary.

Frequency of Collection: One time.

Total Estimated Annual Nonhour Burden Cost: 0.

An agency may not conduct, or sponsor and a person is not required to respond to a collection of information unless it displays a currently valid OMB control number.

The authority for this action is the Paperwork Reduction Act of 1995 (44 U.S.C. 3501 et seq).

Justin Hagerty,
Science Center Director, Southwest Region.

[FR Doc. 2022-03383 Filed 2-15-22; 8:45 am]

BILLING CODE 4338-11-P